DEPARTMENT OF THE TREASURY

Agency Information Collection Activities; Submission for OMB Review; Comment Request; Multiple Internal Revenue Service (IRS) Information Collection Requests

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before January 22, 2026 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Internal Revenue Service (IRS)

1. Title: Returns Required on Magnetic Media.

OMB Control Number: 1545-0957.

Type of Request: Extension without change of a currently approved collection.

Description: Certain filers of information returns are required by law to file on magnetic media. In some instances, waivers from this requirement are necessary and justified. Form 8508 is submitted by the filer and provides information on which IRS will base its waiver determination.

Form: 8508.

Affected Public: Private Sector, Federal, State and local governments.

Estimated Number of Respondents: 1,000.

Frequency of Response: On Occasion.

Estimated Total Number of Annual Responses: 1,000.

Estimated Time per Response: 15 minutes.

Estimated Total Annual Burden Hours: 750.

2. Title: TD 8458, Real Estate Mortgage Investment Conduits.

OMB Control Number: 1545-1276.

Type of Request: Extension of a currently approved collection.

Description: Internal Revenue Code (IRC) section 860E(e) imposes an excise tax on any transfer of a residual interest in a Real Estate Mortgage Investment Conduits (REMIC) to a disqualified organization. IRC sections 860E(e)(4) and 860E(e)(6)(D) provide relief of the excise tax when the transferee or record holder of the residual interest furnishes an affidavit to the transferor or pass-thru entity stating that they are not a disqualified organization. Treasury Decision (TD) 8458 contains final regulations and guidance relating to the IRC requirements for a REMIC. Treasury Regulations section 1.860E-2(a)(5) requires the REMIC, upon request of the party responsible for the tax liability, to furnish information sufficient to compute the present value of the anticipated excess inclusions. Treasury Regulations sections 1.860E-2(a)(7) and 1.860E-2(b)(2) provide requirements for the affidavits provided by the transferee or record holder of a residual interest in a REMIC as required by IRC sections 860E(e)(4) and 860E(e)(6)(D).

Regulation Project Number: TD 8458.

Affected Public: Business or other for-profit organizations.

Estimated Number of Respondents: 1,600.

Frequency of Response: On occasion.

Estimated Total Number of Annual Responses: 1,600.

Estimated Time per Response: 20 minutes.

Estimated Total Annual Burden Hours: 525.

3. Title: Aid of Construction Under Section 118(c).

OMB Control Number: 1545-1639.

Type of Request: Extension of a currently approved collection.

Description: TD 8936 contains final regulations concerning an exclusion from gross income for a contribution in aid of construction under section 118(c) that is treated as a contribution to capital under section 118(a). The final regulations affect a regulated public utility that provides water or sewerage services because a qualifying contribution in aid of construction is treated as a contribution to the capital of the utility and excluded from gross income. The final regulations provide guidance on the definition of a contribution in aid of construction, the adjusted basis of any property acquired with a contribution in aid of construction, the information relating to a contribution in aid of construction required to be furnished by the utility, and the time and manner for providing that information to the IRS.

Regulation Project Number: TD 8936.

Affected Public: Businesses and other for-profit organizations.

Estimated Number of Respondents: 300.

Frequency of Response: On Occasion.

Estimated Time per Response: 60 minutes.

Estimated Total Annual Burden Hours: 300.

(Authority: 44 U.S.C. 3501 et seq.)

Spencer W. Clark,
Treasury PRA Clearance Officer.

[FR Doc. 2025-23740 Filed 12-22-25; 8:45 am]

BILLING CODE 4830-01-P